DEPARTMENT OF HEALTH AND HUMAN SERVICES

Administration for Children and Families

Submission for OMB Review; Comment Request

Title: Methodology for Determining Whether an Increase in a State's Child Poverty Rate is the Result of the TANF program—NPRM.

OMB No.: 0970-0186.

Description: In accordance with Section 413(i) of the Social Security Act and 45 CFR part 284, the Department of Health and Human Services (HHS) intends to reinstate the following information collection requirements. For instances when Census Bureau data show that a States child poverty rate increased by 5 percent or more from one year to the next, a State may submit independent estimates of its child poverty rate. If HHS determines that the States independent estimates are not more reliable than the Census Bureau estimates, HHS will require the State to submit an assessment of the impact of the TANF program(s) in the State on the child poverty rate. If HHS determines from the assessment and other information that the child poverty rate in the State increased as a result of the TANF program(s) in the State, HHS will then require the State to submit a corrective action plan.

Respondents: The respondents are the 50 States, the District of Columbia and Puerto Rico; when reliable Census Bureau data become available for the Territories, additional respondents might include Guam and the Virgin Islands.

Annual Burden Estimates
Instrument | Number of respondents | Number of responses per respondent | Average burden hours per response | Total burden hours
Optional Submission of Data on Child Poverty from an Independent Source | 52 | 1 | 8 | 416
Assessment of the Impact of TANF on the Increase in Child Poverty | 52 | 1 | 120 | 6,240
Corrective Action Plan | 52 | 1 | 160 | 8,320

Estimated Total Annual Burden Hours: 14,976.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: February 6, 2009.
Janean Chambers,
Reports Clearance Officer.

[FR Doc. E9-2894 Filed 2-10-09; 8:45 am]

BILLING CODE 4184-01-P